DEPARTMENT OF COMMERCE

National Oceanic and Atmospheric Administration

Agency Information Collection Activities; Submission to the Office of Management and Budget (OMB) for Review and Approval; Comment Request; Application Forms for Membership on a National Marine Sanctuary Advisory Council

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 5, 2021 (86 FR 8343) during a 60-day comment period. This notice allows for an additional 30 days for public comments.

Agency: National Oceanic and Atmospheric Administration, Commerce.

Title: Application Forms for Membership on a National Marine Sanctuary Advisory Council.

OMB Control Number: 0648-0397.

Form Number(s): None.

Type of Request: Revision and extension of a current information collection.

Number of Respondents: 750.

Average Hours per Response: 1.

Total Annual Burden Hours: 750.

Needs and Uses: This request is for revision and extension of this information collection. NOAA is proposing changes to both the youth and general advisory council applications. The specific changes can be found in the response to Question 1 of the Supporting Statement for this collection.

Section 315 of the National Marine Sanctuaries Act (NMSA) (16 U.S.C. 1445a) authorizes the Secretary of Commerce to establish one or more advisory councils to advise and make recommendations to the Secretary regarding the designation and management of national marine sanctuaries. Executive Order 13178 (December 4, 2000) similarly established a Coral Reef Ecosystem Reserve Council pursuant to the NMSA to provide advice and recommendations regarding the Northwestern Hawaiian Islands Coral Reef Ecosystem Reserve. Councils are individually chartered to meet the specific needs of a sanctuary site or of the sanctuary system; 16 councils—15 sanctuary advisory councils and one reserve advisory council—currently exist. Once a council has been chartered, and as vacancies occur for existing councils, NOAA's Office of National Marine Sanctuaries starts a process to recruit members for that council by providing notice to the public and asking interested parties to apply for the available seats. An application form has been developed to help ease the application process for the public and facilitate the review process for the ONMS director.

Affected Public: Individuals.

Frequency: On occasion.

Respondent's Obligation: Voluntary.

Legal Authority: National Marine Sanctuaries Act (16 U.S.C. 1445a).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0397. Requests for information, including copies of the proposed collection of information and supporting documentation, may be directed to ONMS at katie.denman@noaa.gov.

Sheleen Dumas,
Department PRA Clearance Officer, Office of the Chief Information Officer, Commerce Department.

[FR Doc. 2021-13201 Filed 6-23-21; 8:45 am]

BILLING CODE 3510-NK-P